DEPARTMENT OF TRANSPORTATION

Federal Aviation Administration

14 CFR Part 25

System Design Analysis; Proposed Changes to Airworthiness Standards and Advisory Circular

AGENCY: Federal Aviation Administration (FAA), DOT.

ACTION: Notice of availability of Aviation Rulemaking Advisory Committee (ARAC) recommendations.

SUMMARY: The Federal Aviation Administration (FAA) announces the availability of the ARAC-recommended proposed changes to the airworthiness standards for transport category airplanes regarding equipment, systems, and installations, and Advisory Circular (AC) 25.1309-1A, “System Design Analysis,” for potential use, upon request, in the certification of applicable airplane systems. The FAA has not yet adopted these ARAC recommendations.

FOR FURTHER INFORMATION CONTACT: Mr. Linh Le, Federal Aviation Administration, Transport Airplane Directorate, Transport Standards Staff, Safety Management Branch, ANM-117, 1601 Lind Avenue SW., Renton, WA 98055-4056; telephone (425) 227-1105; fax (425) 227-1320; e-mail: Linh.Le@faa.gov.

SUPPLEMENTARY INFORMATION: Reference: FAA policy memorandum 00-113-1034 “Use of ARAC (Aviation Rulemaking Advisory Committee) Recommended Rulemaking not yet formally adopted by the FAA, as a basis for equivalent level of safety or exemption to Part 25.”

This policy memorandum describes a standardized, streamlined approach for the use of draft FAA/JAA harmonized regulations as a basis for an equivalent level of safety finding or an exemption to part 25. It may be found on the Internet at the following address: http://www.faa.gov/certification/aircraft/anminfo/document/final/aracesf/index.htm.

Background

After a multi-year review of the current § 25.1309 and AC 25.1309-1A, the ARAC submitted to the FAA their recommendations for a rule change and a revised advisory circular in August 2002. The ARAC-recommended proposed changes to 14 CFR 25.1309 and AC 25.1309-1A are available on the Internet at the following address: http://www1.faa.gov/avr/arm/aractransairengine.cfm?nav=6. If you do not have access to the Internet, you can obtain a copy of the policy by contacting the person listed under FOR FURTHER INFORMATION CONTACT.

The procedure for using ARAC recommendations for rule changes that are not yet adopted by the FAA is described in the FAA policy memorandum 00-113-1034 referenced above. The memorandum describes the process for requesting an equivalent safety finding, as well as petitioning for an exemption.

A specific portion of the proposed changes to AC 25.1309-1A that should not be used as an acceptable means of compliance is paragraph 8.d, which describes an alternative method of compliance by exemption. The FAA does not concur with paragraph 8.d and intends to exclude paragraph 8.d from the final AC. The remainder of the proposed changes to the AC may be used as an acceptable means of compliance to the proposed revision to § 25.1309, or to the existing § 25.1309.

Issued in Renton, Washington, on April 14, 2003.
Mike Kaszycki,
Acting Manager, Transport Airplane Directorate, Aircraft Certification Service.

[FR Doc. 03-10452 Filed 4-28-03; 8:45 am]

BILLING CODE 4910-13-P